DEPARTMENT OF COMMERCE

National Oceanic and Atmospheric Administration

RIN 0648-XF078

Pacific Fishery Management Council; Public Meeting

AGENCY: National Marine Fisheries Service (NMFS), National Oceanic and Atmospheric Administration (NOAA), Commerce.

ACTION: Notice of public meeting (work session).

SUMMARY: The Pacific Fishery Management Council (Pacific Council) will convene a work session of its Coastal Pelagic Species (CPS) Management Team (CPSMT). The work session is open to the public.

DATES: The work session will be held Tuesday-Thursday, January 17-19, 2017. The meeting will begin the first day at 8:30 a.m. Pacific Daylight Time, and at 8 a.m. each following day. The meeting will adjourn each day at 5 p.m., or when business for the day has been completed.

ADDRESSES: The meeting will be held in the Plankton Room of the NOAA Southwest Fisheries Science Center, 8901 La Jolla Shores Dr., La Jolla, CA 92037-1508.

Council address: Pacific Fishery Management Council, 7700 NE. Ambassador Place, Suite 101, Portland, OR 97220.

FOR FURTHER INFORMATION CONTACT: Mr. Kerry Griffin, Staff Officer; telephone: (503) 820-2409.

SUPPLEMENTARY INFORMATION: The primary purposes of the work session are to review and continue development of a final analysis and fishery management plan (FMP) language for small-scale fisheries, in preparation for Council final action in April 2017; explore potential changes to CPS management categories; consider potential for periodic review of monitored stock harvest specifications and management measures; discuss ecosystem information and concerns as they relate to CPS management, forage needs, and other ecosystem needs; and workload planning for 2017 and 2018.

Special Accommodations

Requests for sign language interpretation or other auxiliary aids should be directed to Mr. Dale Sweetnam (858) 546-7170 at least 10 business days prior to the meeting date.

Dated: December 6, 2016.
Tracey L. Thompson,
Acting Deputy Director, Office of Sustainable Fisheries, National Marine Fisheries Service.

[FR Doc. 2016-29508 Filed 12-8-16; 8:45 am]

BILLING CODE 3510-22-P